DEPARTMENT OF TRANSPORTATION

Research and Special Programs Administration

Office of Hazardous Materials Safety; Notice of Applications for Exemptions

AGENCY: Research and Special Programs Administration (DOT).

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 28, 2001.

ADDRESSES: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on February 20, 2001.
J. Suzanne Hedgepeth,
Director, Office of Hazardous Materials, Exemptions and Approvals.

New Exemptions
Application No. | Docket No. | Applicant | Regulation(s) affected | Nature of exemption thereof
12622-N | RSPA-01-8831 | Atlantic Research Corporation; Knoxville, TN | 49 CFR 172.200, 172.500 | To authorize the transportation in commerce of Division 1.3C, 1.4C and 2.2 airbags without the required shipping papers and placarding. (mode 1)
12623-N | RSPA-01-8829 | General Chemical Corporation, Parsippany, NJ | 49 CFR 174.67(i) & (j) | To authorize rail cars to remain connected while standing without the physical presence of an unloader. (mode 2)
12625-N | RSPA-01-8830 | Smart-Hose Technologies, Inc. Philadelphia, PA | 49 CFR 177.834 | To authorize cargo tank motor vehicles to remain connected while standing without the physical presence of an unloader. (mode 1)
12626-N | RSPA-01-8851 | SMI Companies Franklin, LA | 49 CFR 173.243(c) | To authorize the manufacture, mark, sale and use of non-DOT specification steel portable tanks equipped with external bottom discharge valves for use in transporting Class 8 material. (modes 1, 3)
12629-N | RSPA-01-8853 | Western Sales & Testing of Amarillo, Inc. Amarillo, TX | 49 CFR 173.34(e) | To authorize an alternative method of retest for DOT 3A, 3AA, 3AAX and 3T compressed gas cylinders for use in transporting liquified or nonliquefied compressed gases, or mixtures as presently authorized. (modes 1, 2, 3)
12630-N | RSPA-01-8850 | Chemetall GmbH Gesellschaft Langelsheim, DE | 49 CFR 172.102(a)(2) & (c)(7)(ii) | To authorize the transportation in commerce of lithium alkyls, Divisions 4.2, in non-DOT specification IM 101 portable tanks with an equivalent minimum shell thickness less than that prescribed for the material. (modes 1, 2, 3)
12631-N | RSPA-01-8849 | Precision Medical Northhampton, PA | 49 CFR 178.57(d) | To authorize the transportation is commerce of a portable cryogenic cylinder containing oxygen, Division 2.2 (mode 1)
12634-N | RSPA-01-8913 | Norman International Los Angeles, CA | 49 CFR 173.12(b)(2) | To authorize the manufacture, mark, sale and use of a corrugated fiberboard box as the outer packaging for lab pack applications in accordance with Section 173.12(b). (modes 1, 2)

[FR Doc. 01-4674 Filed 2-23-01; 8:45 am]

BILLING CODE 4910-60-M